DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground *Elevation in feet (NGVD) •Elevation in feet (NAVD)
NORTH CAROLINA
Craven County (FEMA Docket No. D-7574)
Bachelor Creek:
At Washington Post Road | •8
At the Craven/Jones County boundary | •29
Craven County (Unincorporated Areas)
Beaverdam Branch:
At the confluence with Bachelor Creek | •10
Approximately 0.4 mile upstream of Hyman Road | •12
Craven County (Unincorporated Areas)
Beaverdam Swamp:
At the confluence with Little Swift Creek | •9
Approximately 800 feet upstream of Hudnell Road | •17
Craven County (Unincorporated Areas)
Black Swamp Creek:
Approximately 2.0 miles downstream of Catfish Lake Road | •30
Approximately 0.9 mile upstream of Catfish Lake Road | •37
Craven County (Unincorporated Areas)
Brice Creek:
At upstream side of Old Airport Road | •8
At the confluence with East Prong Brice Creek | •15
Craven County (Unincorporated Areas)
Bushy Fork:
At the confluence with Little Swift Creek | •23
Approximately 0.8 mile upstream of the confluence with Little Swift Creek | •28
Craven County (Unincorporated Areas)
Cahoogue Creek:
Approximately 0.5 mile downstream of State Route 306 | •8
Approximately 0.3 mile upstream of NC Route 101 | •19
Craven County (Unincorporated Areas)
Clayroot Swamp:
At the confluence with Swift Creek | •19
Approximately 0.5 mile upstream of Wilmer Road | •21
Craven County (Unincorporated Areas)
Clubfoot Creek:
At the downstream side of Adam Creek Road | •8
Approximately 1,850 feet downstream of Hodge Road | •10
Craven County (Unincorporated Areas)
Clubfoot Creek Tributary:
Approximately 1,800 feet downstream of Adams Creek Road | •8
Approximately 300 feet upstream of George Road | •13
Craven County (Unincorporated Areas)
Core Creek:
At the confluence with Neuse River | •19
Approximately 0.8 mile upstream of Trenton Road | •36
Craven County (Unincorporated Areas)
Creeping Swamp:
At the confluence with Clayfoot Swamp | •21
At the Craven/Beaufort County boundary | •33
Craven County (Unincorporated Areas)
Deep Branch:
At the confluence with Bachelor Creek | •14
Approximately 0.5 mile downstream of Clarks Road | •14
Craven County (Unincorporated Areas)
East Prong Brice Creek:
At the confluence with Brice Creek | •15
Approximately 1.9 miles upstream of the confluence with Brice Creek | •19
Craven County (Unincorporated Areas)
East Prong Mortons Mill Pond:
At the confluence with Mortons Mill Pond | •8
Approximately 1,500 feet upstream of NC 101 | •10
Craven County (Unincorporated Areas)
East Prong Slocum Creek:
At the upstream side of Railroad Street | •15
Approximately 1.5 miles upstream of Railroad Street | •19
City of Havelock, Craven County (Unincorporated Areas)
Fisher Swamp:
At the confluence with Beaver Dam Swamp | •9
Approximately 3.4 miles upstream of the confluence with Beaverdam Swamp | •22
Craven County (Unincorporated Areas)
Flat Branch:
At the confluence with Core Creek | •19
Approximately 1.8 miles upstream of NC 55 | •30
Craven County (Unincorporated Areas)
Great Branch:
At the confluence with Brice Creek | •15
Approximately 900 feet upstream of Tebo Road | •19
Craven County (Unincorporated Areas)
Hancock Creek:
At the upstream side of NC 101 | •8
Approximately 1.6 miles upstream of NC 101 | •21
City of Havelock, Craven County (Unincorporated Areas)
Hollis Branch:
At the confluence with Bachelor Creek | •27
Approximately 540 feet upstream of Hillard Road | •36
Craven County (Unincorporated Areas)
Hunters Creek:
At the Craven/Carteret/Jones County boundary | •24
Approximately 500 feet downstream of Great Lake | •40
Craven County (Unincorporated Areas)
Jumping Run:
At the confluence with Bachelor Creek | •8
Approximately 250 feet downstream of Highway 55 | •15
Craven County (Unincorporated Areas)
Little Swift Creek:
At the confluence of Swift Creek | •9
Approximately 650 feet upstream of Beaver Dam Road | •25
Craven County (Unincorporated Areas)
Maple Cypress:
At the confluence with Neuse River | •20
Approximately 0.7 mile upstream of Harris Road | •29
Craven County (Unincorporated Areas)
Mauls Swamp:
At the upstream side of Mill Pond Road | •15
Approximately 1.1 miles upstream of the confluence of Mauls Swamp, Tributary 2 | •34
Town of Vanceboro, Craven County (Unincorporated Areas)
Mauls Swamp Tributary 1:
At the confluence with Mauls Swamp | •23
Approximately 0.8 mile upstream of the confluence with Mauls Swamp | •30
Craven County (Unincorporated Areas)
Mauls Swamp Tributary 2:
At the confluence with Mauls Swamp | •28
Approximately 0.9 mile upstream of the confluence with Mauls Swamp | •35
Craven County (Unincorporated Areas)
Mill Branch:
At the confluence with Core Creek | •26
Approximately 4.5 miles upstream of the confluence with Core Creek | •56
Craven County (Unincorporated Areas)
Molocks Branch:
At the confluence with Hancock Creek | •8
Approximately 0.7 mile upstream of the confluence with Hancock Creek | •14
Craven County (Unincorporated Areas)
Morgan Swamp:
At the confluence with Upper Broad Creek | •10
Approximately 1.2 miles upstream of Morgan Swamp Road | •22
Craven County (Unincorporated Areas)
Mosley Creek:
At the confluence with Neuse River | •25
Approximately 1.7 miles upstream of the confluence with Neuse River | •25
Craven County (Unincorporated Areas)
Mosley Creek Tributary:
At the confluence with Mosley Creek | •29
Approximately 2 miles upstream of the confluence with Mosley Creek | •37
Craven County (Unincorporated Areas)
Neuse River:
Approximately 0.7 mile upstream of the confluence of Swift Creek | •9
Approximately 1.2 mile upstream of the confluence with Contentnea Creek | •25
City of New Bern, Craven County (Unincorporated Areas)
Palmetto Swamp:
At the confluence with Swift Creek | •17
Approximately 1.5 miles upstream of Palmetto Swamp Tributary 4 | •32
Craven County (Unincorporated Areas)
Palmetto Swamp Tributary 1:
At the confluence with Palmetto Swamp | •19
Approximately 0.9 mile upstream of the confluence with Palmetto Swamp | •27
Craven County (Unincorporated Areas)
Palmetto Swamp Tributary 2:
At the confluence with Palmetto Swamp | •20
Approximately 150 feet upstream of Clark Road | •26
Craven County (Unincorporated Areas)
Palmetto Swamp Tributary 3:
At the confluence with Palmetto Swamp | •24
Approximately 0.6 mile upstream of the confluence with Palmetto Swamp | •28
Craven County (Unincorporated Areas)
Palmetto Swamp Tributary 4:
At the confluence with Palmetto Swamp | •29
Approximately 800 feet upstream of Gray Road | •39
Craven County (Unincorporated Areas)
Pine Tree Swamp:
At the confluence with Little Swift Creek | •14
At Cayton Road | •25
Craven County (Unincorporated Areas)
Pollard Swamp:
At the confluence with Creeping Swamp | •30
Approximately 1.4 miles upstream of Pollard Road | •41
Craven County (Unincorporated Areas)
Rollover Creek:
At the confluence with Bachelor Creek | •17
Approximately 0.7 mile upstream of Rollover Creek Road | •37
Craven County (Unincorporated Areas)
Round Tree Branch:
At the confluence with Bachelor Creek | •8
Approximately 1.2 miles upstream of the confluence with Bachelor Creek | •11
Craven County (Unincorporated Areas)
South Canal:
At the confluence with Hunters Creek | •33
Approximately 0.9 mile upstream of the confluence with Hunters Creek | •38
Craven County (Unincorporated Areas)
Southwest Prong Slocum Creek:
At the upstream side of Miller Boulevard | •8
Approximately 2.9 miles upstream of Central Street | •27
City of Havelock, Craven County (Unincorporated Areas)
Spe Branch:
At the confluence with Cahoogue Creek | •10
Approximately 0.7 mile upstream of the confluence with Cahoogue Creek | •15
Craven County (Unincorporated Areas)
Swift Creek:
Approximately 1.8 mile upstream of confluence with Neuse River | •9
Approximately 300 feet upstream of Gardnerville Road | •28
Town of Vanceboro, Craven County (Unincorporated Areas)
Tracey Swamp:
At the upstream side of Sand Hill Road | •42
At the Craven/Jones County boundary | •43
Craven County (Unincorporated Areas)
Upper Broad Creek (Neuse Portion):
Approximately 1.8 miles downstream of the confluence of Deep Run | •8
Approximately 2.9 miles upstream of the confluence of Possum Swamp | •29
Craven County (Unincorporated Areas)
Upper Broad Creek (Tar-Pamlico Portion):
Approximately 125 feet downstream of the Craven/Beaufort County boundary | •31
Approximately 0.7 mile upstream of the Craven/Beaufort County boundary | •37
Craven County (Unincorporated Areas)
Village Creek:
At the confluence with Neuse River | •20
Approximately 400 feet upstream of Highway 55 | •45
Craven County (Unincorporated Areas)
West Prong Brice Creek:
At the confluence with Brice Creek | •15
Approximately 0.7 mile upstream of Catfish Lake Road | •36
Craven County (Unincorporated Areas)
West Prong Mortons Mill Pond:
At the confluence with Mortons Mill Pond | •8
Approximately 1.3 miles upstream of North Carolina Route 101 | •18
City of Havelock
Maps available for inspection at the City of Havelock Planning Department, 199 Cunningham Boulevard, Havelock, North Carolina.
City of New Bern
Maps available for inspection at the New Bern Building Inspection Department, 300 Pollock Street, New Bern, North Carolina.
Unincorporated Areas of Craven County
Maps available for inspection at the Craven County Planning Department, Craven County Government, 2828 Neuse Boulevard, New Bern, North Carolina.
———
Jones County (FEMA Docket Nos. D-7562 and D-7570)
Crooked Run:
At the confluence with Trent River | •24
Approximately 2.8 miles upstream of Francks Field Road | •45
Township of Trenton, Jones County (Unincorporated Areas)
Trent River:
Approximately 2.8 miles downstream of the confluence of Mill Creek | •9
At the Jones/Lenoir County boundary | •63
Town of Pollockville, Township of Trenton, Jones County (Unincorporated Areas)
Ash Branch:
At the confluence with Vine Swamp | •56
Approximately 0.5 mile upstream of State Highway 58 | •61
Jones County (Unincorporated Areas)
Beaver Creek:
At the confluence with Trent River | •29
Just downstream of Copeland Farm Road | •50
Jones County (Unincorporated Areas)
Beaverdam Branch 2:
At the confluence with Mill Run | •16
Approximately 0.5 mile upstream of Davis Field Road | •30
Jones County (Unincorporated Areas)
Beaverdam Creek 3:
At the confluence with Trent River | •19
Approximately 2.8 miles upstream of Ten Mile Fork Road | •42
Jones County (Unincorporated Areas)
Black Swamp:
At the confluence with Trent River | •49
Approximately 1.2 miles upstream of Foley Branch Lane | •58
Jones County (Unincorporated Areas)
Chinquapin Branch:
At the confluence with Trent River | •30
Approximately 3.2 miles upstream of Chinquapin Chapel Road | •39
Jones County (Unincorporated Areas)
Island Branch Swamp:
At the confluence with Resolution Branch | •27
Approximately 0.7 mile upstream of Henderson Road | •30
Jones County (Unincorporated Areas)
Island Creek:
Approximately 0.3 mile downstream of the confluence of Long Branch | •8
Approximately 1.2 mile upstream of Island Creek Road | •20
Jones County (Unincorporated Areas)
Joshua Creek:
At the confluence with Trent River | •58
At the Jones/Lenoir County boundary | •64
Jones County (Unincorporated Areas)
Jumping Creek:
At the confluence with Trent River | •20
Approximately 1.3 miles upstream of Ten Mile Fork Road | •32
Jones County (Unincorporated Areas)
Little Chinquapin Branch:
At the confluence with Trent River | •36
Approximately 0.6 mile upstream of Pleasant Hill Road | •49
Jones County (Unincorporated Areas)
Little Hall Creek:
At the confluence with Trent River | •15
Approximately 1.7 miles upstream of State Highway 58 | •28
Jones County (Unincorporated Areas)
Long Branch:
At the confluence with Trent River | •18
Approximately 500 feet upstream of Ben Banks Road | •34
Jones County (Unincorporated Areas)
Mill Branch:
At the confluence with Trent River | •40
Approximately 1.2 miles upstream of the confluence of Trent River | •44
Jones County (Unincorporated Areas)
Holston Creek:
At the confluence with White Oak River | •10
Approximately 2.6 miles upstream of State Highway 58 | •23
Jones County (Unincorporated Areas)
Cypress Creek:
At the confluence with Trent River | •43
Approximately 2.9 miles upstream of Old Comfort Highway | •54
Jones County (Unincorporated Areas)
Deep Bottom Branch:
At the confluence with Beaver Creek | •29
Approximately 1.6 miles upstream of Wyse Fork Road | •54
Jones County (Unincorporated Areas)
Flat Swamp:
At the confluence with Beaver Creek | •44
Approximately 0.6 mile upstream of the confluence of Flat Swamp Tributary 1 | •50
Jones County (Unincorporated Areas)
Flat Swamp Tributary:
At the confluence with Flat Swamp | •49
Approximately 1,300 feet upstream of the confluence with Flat Swamp | •49
Jones County (Unincorporated Areas)
Goshen Branch:
At the confluence with Trent River | •14
Approximately 475 feet upstream of Bell Loop Road | •23
Jones County (Unincorporated Areas)
Grape Branch:
At the confluence with Tuckahoe Swamp | •62
Approximately 0.9 mile upstream of the confluence of Grape Branch Tributary | •73
Jones County (Unincorporated Areas)
Grape Branch Tributary 1:
At the confluence with Grape Branch | •64
Approximately 1,300 feet upstream of the confluence with Grape Branch | •67
Jones County (Unincorporated Areas)
Heath Mill Run:
At the confluence with Beaver Creek | •31
Approximately 1.6 miles upstream of Wyse Fork Road | •51
Jones County (Unincorporated Areas)
Mill Creek:
At the confluence with Trent River | •13
Approximately 2.3 miles upstream of Bender Road | •37
Township of Pollockville, Jones County (Unincorporated Areas)
Mill Creek Tributary 1:
At the confluence with Mill Creek | •13
Approximately 0.5 mile upstream of the confluence of Tributary to Mill Creek Tributary 1 | •24
Jones County (Unincorporated Areas)
Mill Run:
At the confluence with Trent River | •16
Approximately 1.4 miles upstream of the confluence of Beaverdam Branch 2 | •28
Jones County (Unincorporated Areas)
Musselshell Creek:
At the confluence with Trent River | •26
Approximately 1.0 mile upstream of the confluence of Musselshell Creek Tributary 2 | •43
Jones County (Unincorporated Areas)
Pocoson Branch:
At the confluence with Trent River | •33
Approximately 1.2 miles upstream of Highway 41 | •50
Jones County (Unincorporated Areas)
Poplar Branch:
At the confluence with Trent River | •33
Approximately 1.0 mile upstream of State Route 41 | •47
Jones County (Unincorporated Areas)
Raccoon Creek:
Approximately 0.59 mile upstream of the confluence with Trent River | •8
Approximately 650 feet downstream of Island Creek Road | •21
Jones County (Unincorporated Areas)
Rattlesnake Branch:
At the confluence with Beaver Creek | •43
Approximately 0.4 mile upstream of Moore Road | •50
Jones County (Unincorporated Areas)
Reedy Branch 1:
At the confluence with Trent River | •48
Approximately 1.3 miles upstream of State Route 41 | •58
Jones County (Unincorporated Areas)
Resolution Branch:
At the confluence with Trent River | •27
Approximately 0.8 mile upstream of Wyse Fork Road | •45
Jones County (Unincorporated Areas)
Hunters Creek:
At the confluence with White Oak River | •9
Approximately 1.3 miles upstream of the confluence of South Canal | •39
Jones County (Unincorporated Areas)
Tributary to Mill Creek Tributary 1:
At the confluence with Mill Creek Tributary 1 | •18
Approximately 0.8 mile upstream of the confluence with Mill Creek Tributary 1 | •27
Jones County (Unincorporated Areas)
Tuckahoe Creek:
At the confluence with Trent River | •51
Approximately 1,200 feet upstream of Lee Mills Road | •59
Jones County (Unincorporated Areas)
Tuckahoe Swamp:
At the confluence of Tuckahoe Creek | •57
At the Jones/Lenoir County boundary | •81
Jones County (Unincorporated Areas)
Vine Swamp:
At the confluence with Beaver Creek | •49
At the Jones/Lenoir County boundary | •56
Jones County (Unincorporated Areas)
Black Swamp Creek:
At the confluence with White Oak River | •11
Approximately 0.9 mile upstream of Catfish Lake Road | •37
Jones County (Unincorporated Areas)
Chinkapin Branch:
At the confluence with White Oak River | •38
Approximately 0.7 mile upstream of the confluence with White Oak River | •38
Jones County (Unincorporated Areas)
Tracey Swamp:
At downstream limit of County boundary | •43
Approximately 400 feet upstream of Burkett Road | •54
Jones County (Unincorporated Areas)
Tracey Swamp Tributary:
At the confluence with Tracey Swamp | •47
Approximately 1.1 miles upstream with the confluence of Tracey Swamp | •53
Jones County (Unincorporated Areas)
White Oak River:
At the confluence of Hunters Creek | •9
Approximately 2.8 miles upstream of the confluence of Chinkapin Branch | •50
Jones County (Unincorporated Areas)
White Oak River Tributary 1:
At the confluence with White Oak River | •15
Approximately 0.4 mile upstream of Eighth Street/State Highway 58 | •36
Town of Maysville, Jones County (Unincorporated Areas)
White Oak River Tributary 2:
At the confluence with White Oak River Tributary 1 | •22
Approximately 0.6 mile upstream of Eighth Street/State Highway 58 | •35
Town of Maysville, Jones County (Unincorporated Areas)
Hollis Branch:
Approximately 450 feet downstream of the Craven/Jones County boundary | •35
Approximately 800 feet upstream of the Craven/Jones County boundary | •36
Jones County (Unincorporated Areas)
Town of Maysville
Maps available for inspection at the Town of Maysville Public Works Department, 404 Main Street, Maysville, North Carolina.
Town of Pollocksville
Maps available for inspection at the Pollocksville Town Hall, 215 Foy Street, Pollocksville, North Carolina.
Township of Trenton
Maps available for inspection at the Trenton Town Hall, 119 Jones Street, Trenton, North Carolina.
Unincorporated Areas of Jones County
Maps available for inspection at the Jones County Building and Inspections Department, 101 Market Street, Trenton, North Carolina.
———
Lenoir County (FEMA Docket No. D-7570)
Adkin Branch:
At the confluence with Neuse River | •35
Approximately 0.4 mile upstream of Carey Road | •76
City of Kinston, Lenoir County (Unincorporated Areas)
Bear Creek:
At the confluence with Neuse River | •52
At the Lenoir/Greene County boundary | •82
Town of LaGrange, Lenoir County (Unincorporated Areas)
Southwest Creek:
At the confluence with Neuse River | •32
At the downstream side of railroad | •34
City of Kinston, Lenoir County (Unincorporated Areas)
Moseley Creek into Falling Creek:
At the downstream LaGrange corporate limit | •76
Approximately 150 feet upstream of State Highway 903 | •92
Town of LaGrange
Briery Run:
Approximately 1,000 feet upstream of Rouse Road | •67
Approximately 0.5 mile upstream of Dobbs Farm Road | •80
City of Kinston, Lenoir County (Unincorporated Areas)
Falling Creek:
At the confluence with Neuse River | •42
Approximately 1.6 miles upstream of Brothers Road | •85
City of Kinston, Lenoir County (Unincorporated Areas)
Taylors Branch:
Approximately 300 feet upstream of Rouse Road | •72
Approximately 1.4 miles upstream of Rouse Road | •101
City of Kinston, Lenoir County (Unincorporated Areas)
Eagle Swamp:
At the confluence with Contentnea Creek | •25
At the downstream side of railroad | 25
Lenoir County (Unincorporated Areas)
Contentnea Creek:
At the confluence with Neuse River | •24
Approximately 2.6 miles upstream of Hugo Road | 34
Lenoir County (Unincorporated Areas)
Neuse River:
At the confluence with Contentnea Creek | •24
At the Lenoir/Wayne County boundary | •55
City of Kinston, Lenoir County (Unincorporated Areas)
Wheat Swamp:
At the Lenoir/Greene County boundary | •39
Approximately 4 miles upstream of NC Route 58 | •77
Lenoir County (Unincorporated Areas)
Wheat Swamp Tributary:
At the Lenoir/Greene County boundary | •40
Approximately 0.4 mile upstream of Research Farm Road | 56
Lenoir County (Unincorporated Areas)
Stonyton Creek:
At the confluence with Neuse River | •29
Approximately 1,400 feet upstream of the confluence with Jerico Run | •30
Lenoir County (Unincorporated Areas)
Jerico Run:
At the confluence with Stonyton Creek | •29
Approximately 300 feet downstream of State Route 55 | •29
Lenoir County (Unincorporated Areas)
Mosley Creek to Neuse River:
At the confluence with Neuse River | •25
Approximately 650 feet downstream of Griffin Road | •31
Lenoir County (Unincorporated Areas)
Beaverdam Swamp:
At the confluence with Trent River | •68
Approximately 200 feet upstream of Rex-Howard Road | •95
Lenoir County (Unincorporated Areas)
Deep Run:
Approximately 425 feet upstream of NC State Highway 11 | •87
Approximately 0.7 mile upstream of NC State Highway 11 | •95
Lenoir County (Unincorporated Areas)
Horse Branch:
At the confluence with Trent River | •71
Approximately 2,120 feet upstream of Jesse Howard Road | •74
Lenoir County (Unincorporated Areas)
Joshua Creek:
Approximately 1,200 feet upstream of Fordham Road | •63
Approximately 1.2 miles upstream of Vine Swamp Road | •82
Lenoir County (Unincorporated Areas)
Neuse River Tributary:
At the confluence with Neuse River | •42
Approximately 1,400 feet upstream of railroad | •56
City of Kinston
Southwest Creek Tributary:
At the confluence with Southwest Creek | •34
Approximately 1,250 feet downstream of British Road | •35
City of Kinston, Lenoir County (Unincorporated Areas)
Strawberry Branch:
At the confluence with Southwest Creek | •39
Approximately 150 feet downstream of Whaley Road | •47
City of Kinston, Lenoir County (Unincorporated Areas)
Tracey Swamp:
At the upstream side of Sand Hill Road | •42
At the Lenoir/Craven/Jones County boundary | •43
Lenoir County (Unincorporated Areas)
Trent River:
At the Lenoir/Jones County boundary | •62
Approximately 0.5 mile upstream of NC State Route 11 | •123
Lenoir County (Unincorporated Areas)
Neuse River Tributary 2:
At the confluence with Neuse River Tributary | •44
Approximately 1,800 feet upstream of railroad | •62
City of Kinston
Vine Swamp:
At the Lenoir/Jones County boundary | •57
Approximately 800 feet upstream of Parker Farm Road | •81
Lenoir County (Unincorporated Areas)
Vine Swamp Tributary:
At the confluence with Vine Swamp | •62
Approximately 0.5 mile upstream of Joe Williams Road | •67
Lenoir County (Unincorporated Areas)
Tuckahoe Swamp:
At the Lenoir/Jones County boundary | •81
Approximately 0.5 mile downstream of West Hill Pleasant Road | •87
Rivermont Tributary:
At the confluence with Neuse River | •37
Approximately 1,200 feet upstream of Andrews Street | •39
City of Kinston
Maps available for inspection at the City of Kinston Planning Department, 301 East King Street, Kinston, North Carolina.
Town of La Grange
Maps available for inspection at the La Grange Town Hall, 120 East Railroad Street, La Grange, North Carolina.
Lenoir County Unincorporated Areas
Maps available for inspection at the Lenoir County Building Inspectors Office, 201 East King Street, Kinston, North Carolina.
———
Pamlico County (FEMA Docket No. D-7570)
Alexander Swamp:
Approximately 500 feet upstream of the confluence with Goose Creek | •8
Approximately 2.0 miles downstream of the confluence with Goose Creek | •15
Pamlico County (Unincorporated Areas)
Bay River/Vandemere Creek:
At the intersection of 1st Lane and Water Lane | •7
City of Mesic
Beard Creek:
Approximately 0.8 mile downstream of the confluence of Cedar Gut | •8
Approximately 0.8 mile upstream of Roberts Road | •14
Pamlico County (Unincorporated Areas)
Black Creek:
Approximately 0.8 mile downstream of Prescott Road | •8
Approximately 600 feet upstream of Prescott Road | •16
Pamlico County (Unincorporated Areas)
Caraway Creek:
Approximately 0.6 mile upstream of confluence with Beard Creek | •8
Approximately 0.8 mile upstream of Marvin Field Road | •14
Pamlico County (Unincorporated Areas)
Cedar Gut:
At the confluence with Beard Creek | •8
Approximately 0.6 mile upstream of Neuse Road | •13
Pamlico County (Unincorporated Areas)
Deep Run South:
At the confluence with Dawson Creek | •8
Approximately 900 feet upstream of Don Lee Road | •9
Deep Run North:
At the confluence with Upper Broad Creek | •11
Approximately 0.5 mile upstream of the confluence with Upper Broad Creek | •15
Pamlico County (Unincorporated Areas)
Deep Run Branch:
At the confluence with Goose Creek | •11
Approximately 0.5 mile upstream of the confluence with Goose Creek | •13
Pamlico County (Unincorporated Areas)
East Prong:
At the confluence with Beard Creek | •8
Approximately 1.8 miles upstream of the confluence with Beard Creek | •16
Pamlico County (Unincorporated Areas)
Fork Run:
Approximately 0.7 mile downstream of confluence of Deep South Run | •8
Approximately 0.5 mile upstream of Kershaw Road | •11
Pamlico County (Unincorporated Areas)
Goose Creek:
At Neuse Road | •8
Approximately 1.7 miles upstream of confluence of Deep Run Branch | •15
Pamlico County (Unincorporated Areas), Town of Grantsboro
Granny Gut:
At the confluence with Dawson Creek | •8
Approximately 1,500 feet upstream of Kershaw Road | •8
Pamlico County (Unincorporated Areas)
Green's Creek:
Approximately 1,750 feet west-southwest of the intersection of Harris Farm Road and Kershaw Road | •9
Pamlico County (Unincorporated Areas)
Kershaw Creek:
Approximately 1,500 feet north-northeast of the intersection of Harris Farm Road and Kershaw Road | •7
Pamlico County (Unincorporated Areas)
Mill Creek:
Approximately 1,800 feet upstream of the confluence with Neuse River | •8
Approximately 1.8 miles upstream of the confluence with Neuse River | •9
Pamlico County (Unincorporated Areas)
Neal Creek:
Approximately 0.6 mile upstream of confluence with South Prong Bay River | •7
Approximately 1.4 miles upstream of confluence with South Prong Bay River | •10
Pamlico County (Unincorporated Areas)
North Prong Bay River:
Approximately 1.1 miles upstream of the confluence with Bay River | •7
Approximately 1.1 miles upstream of Mill Pond Road | •10
Pamlico County (Unincorporated Areas)
Pamlico River:
Area within Goose Creek State Refuge | •6
Area within Goose Creek State Refuge | •7
Pamlico County (Unincorporated Areas)
Possum Swamp:
At the confluence with Upper Broad Creek | •17
Approximately 0.9 mile upstream of the confluence of Savannah Bridge Swamp | •24
Pamlico County (Unincorporated Areas)
Sasses Branch:
At the confluence with Upper Broad Creek | •8
Approximately 0.9 mile upstream of the confluence with Upper Broad Creek | •9
Pamlico County (Unincorporated Areas)
Savannah Bridge Swamp:
At the confluence with Possum Swamp | •19
Approximately 0.5 mile upstream of the confluence with Possum Swamp | •23
Pamlico County (Unincorporated Areas)
South Prong Bay River:
Approximately 1.0 mile upstream of Cooper Road | •9
Approximately 1.6 miles upstream of Cooper Road | •9
Pamlico County (Unincorporated Areas), Town of Alliance, Town of Grantsboro
Southwest Fork Trent Creek:
Approximately 0.5 mile upstream of confluence with Trent Creek | •6
Approximately 0.7 mile upstream of Isabelle Road | •7
Pamlico County (Unincorporated Areas)
Trent Creek:
At Highway 55 | •6
Approximately 2.2 miles upstream of confluence of Fork Run 1 | •7
Pamlico County (Unincorporated Areas)
Upper Broad Creek (Neuse Basin):
At Lee Landing Road | •8
Approximately 3.2 miles upstream of Old Cross Road | •29
Pamlico County (Unincorporated Areas)
Upper Broad Creek (Tar-Pamlico Basin):
At the Beaufort/Pamlico County boundary | •31
Approximately 1.8 miles downstream of the Beaufort/ Pamlico County boundary | •37
Pamlico County (Unincorporated Areas)
Wheeler Gut:
At the confluence with Fork Run | •8
Approximately 0.5 mile upstream of the confluence with Fork Run | •9
Pamlico County (Unincorporated Areas)
Town of Alliance
Maps available for inspection at the Pamlico County Building Inspectors Office, 202 Main Street, Bayboro, North Carolina.
Town of Grantsboro
Maps available for inspection at the Pamlico County Building Inspectors Office, 202 Main Street, Bayboro, North Carolina and the Grantsboro Town Hall, Highway 55, Grantsboro, North Carolina.
City of Mesic
Maps available for inspection at the Pamlico County Building Inspectors Office, 202 Main Street, Bayboro, North Carolina.
Pamlico County Unincorporated Areas
Maps available for inspection at the Pamlico County Building Inspectors Office, 202 Main Street, Bayboro, North Carolina.

(Catalog of Federal Domestic Assistance No. 83.100, “Flood Insurance”)
Dated: February 3, 2004.
Anthony S. Lowe,
Mitigation Division Director, Emergency Preparedness and Response Directorate.

[FR Doc. 04-2794 Filed 2-9-04; 8:45 am]

BILLING CODE 9110-12-P